DEPARTMENT OF HOUSING AND URBAN DEVELOPMENT

[Docket No. FR-6204-N-01]

Executive Order 13891 Promoting the Rule of Law Through Improved Agency Guidance Documents: Announcing the Availability of the HUD Guidance Portal

AGENCY: Office of General Counsel, HUD.

ACTION: Notice.

SUMMARY: On October 9, 2019, the President issued Executive Order (E.O.) 13891, “Promoting the Rule of Law Through Improved Agency Guidance Documents.” Among other things, Section 3 of the E.O. requires agencies to provide a single online guidance portal for the public to access all effective guidance. In addition, Office of Management and Budget Memorandum M-20-02 dated October 31, 2019, advises that agencies should announce the existence of the guidance portal by Federal Register notice. Consistent with this guidance, today's notice advises the public that HUD has comprehensively reviewed its guidance documents, determined which have continued effect, and is making them available on https://www.hud.gov/guidance.

FOR FURTHER INFORMATION CONTACT: Aaron Santa Anna, Acting Associate General Counsel, Office of Legislation and Regulation, Office of General Counsel, Department of Housing and Urban Development, 451 7th Street SW, Room 10282, Washington, DC 20410; telephone number 202-708-1793 (not a toll-free number). Individuals with hearing or speech impediments may access this number via TTY by calling the Federal Relay Service (FedRelay) during working hours at 800-877-8339 (a toll-free number).

SUPPLEMENTARY INFORMATION:

I. Background

On October 9, 2019 (84 FR 55235), the President issued Executive Order 13891, “Promoting the Rule of Law Through Improved Agency Guidance Documents.” The E.O. reaffirms the principle that, consistent with applicable law and except as incorporated into a contract, Federal agencies treat guidance documents as non-binding both in law and practice. To further the principle that agency guidance should be transparent and made readily available to the public, section 3 of the E.O. requires that agencies make available guidance documents on a single, searchable, indexed public website. Section 3 also requires that agencies review their guidance documents and, consistent with applicable law, rescind those guidance documents that should no longer be in effect.

II. Online Guidance Portal

Consistent with E.O. 13891, HUD conducted a comprehensive review of its guidance documents to identify those that remain in effect. HUD's review also ensured that all guidance documents are linked to a single website, that the website could be searched, and that the documents linked continued to be effective. As a result of these efforts, HUD is announcing that it has launched a single searchable, indexed database containing or linking all HUD guidance documents. HUD's website is: http://www.hud.gov/guidance. HUD's website contains guidance documents issued by all of HUD's program offices and provides links that will allow members of the public to access all HUD's guidance documents in effect. In furtherance of E.O. 13891's goal of increasing transparency and availability of guidance documents, HUD will continue to work to refine this site in order to archive documents as they are found to be no longer in effect.

HUD's website states that the contents of HUD's guidance documents, except when based on statutory or regulatory authority or law, do not have the force and effect of law and are not meant to bind the public in any way.

Dated: February 28, 2020.
J. Paul Compton, Jr.,
General Counsel.

[FR Doc. 2020-04458 Filed 3-3-20; 8:45 am]

BILLING CODE 4210-67-P